DEPARTMENT OF HOMELAND SECURITY

Policy Directorate/Office of Strategic Plans; Quadrennial Homeland Security Report

AGENCY: Policy Directorate/Office of Strategic Plans, DHS.

ACTION: 30-Day Notice and request for comments; Emergency Submission to the Office of Management and Budget (OMB).

SUMMARY: The Department of Homeland Security, Policy Directorate/Office of Strategic Plans, submits this for the following information collection request (ICR) to the Office of Management and Budget (OMB) for review and clearance in accordance with the Paperwork Reduction Act of 1995 (Pub. L. 104-13, 44 U.S.C. Chapter 35). The Policy Directorate/Office of Strategic Plans is soliciting comments concerning the Quadrennial Homeland Security Report. The purpose of this notice is to allow additional 30-days for public comments.

DATES: Comments are encouraged and will be accepted until July 2, 2009. This process is conducted in accordance with 5 CFR 1320.10.

ADDRESSES: Interested persons are invited to submit written comments on the proposed information collection to the Office of Information and Regulatory Affairs, Office of Management and Budget. Comments should be addressed to OMB Desk Officer, Department of Homeland Security, Office of Civil Rights and Civil Liberties, and sent via electronic mail to oira_submission@omb.eop.gov or faxed to (202) 395-6974.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: the Department of Homeland Security (DHS), Policy Directorate/Office of Strategic Plans, Michael Galang, (202) 282-9118.

SUPPLEMENTARY INFORMATION: The Implementing Recommendations of the 9/11 Commission Act of 2007 mandated the QHSR and included the following consultation requirement: “The Secretary shall conduct each quadrennial homeland security review under this subsection in consultation with—(A) The heads of other Federal agencies, including the Attorney General, the Secretary of State, the Secretary of Defense, the Secretary of Health and Human Services, the Secretary of the Treasury, the Secretary of Agriculture, and the Director of National Intelligence; (B) key officials of the Department; and (C) other relevant governmental and nongovernmental entities, including State, local, and tribal government officials, members of Congress, private sector representatives, academics, and other policy experts.”

The homeland security community is so vast that physically convening representative and inclusive study groups that are also able to work efficiently and effectively is virtually impossible. Therefore, DHS will fulfill QHSR consultation requirements through a number of mechanisms, including collaborative web-based engagement tools. In doing so, DHS intends to create a true national dialogue on homeland security. A national dialogue platform will be created and hosted to engage homeland security stakeholders around the compelling questions, ideas, or concepts that emerge through the QHSR process. The dialogue platform is based on the principle of radical scalability: The more feedback that is received, the more clearly sorted participants' preferences and priorities become. In a national dialogue, users can submit their best ideas, refine them in open discussion, and use simple rating and tagging features to identify the most popular ideas and important overarching themes. The platform can host multiple simultaneous dialogues, and dynamically pose new questions, so that DHS can repeatedly “pulse” participants over a three-month timeframe.

Ideas, comments, or position papers will also be solicited at the outset of the review and accepted via electronic means. All submitted position papers will inform the QHSR Study Groups as they initiate their analyses. All homeland security stakeholders are eligible and are invited to provide input. A letter from Secretary Napolitano will be sent to each stakeholder association inviting their input.

Analysis

Agency: Department of Homeland Security, Policy Directorate/Office of Strategic Plans.

Title: Quadrennial Homeland Security Report.

OMB Number: 1601-NEW.

Frequency: On occasion.

Affected Public: Federal Government, State, Local or Tribal Government.

Number of Respondents: 50,000 respondents.

Estimated Time per Respondent: 8 hours per respondent.

Total Burden Hours: 400,000 annual burden hours.

Total Burden Cost (capital/startup): None.

Total Burden Cost (operating/maintaining): None.

Dated: May 14, 2009.
Margaret H. Graves,
Acting Chief Information Officer.

[FR Doc. E9-12681 Filed 6-1-09; 8:45 am]

BILLING CODE 9110-9M-P